DEPARTMENT OF DEFENSE

Department of the Air Force

Airspace Training Initiative Environmental Impact Statement

AGENCY: Air Combat Command, United States Air Force.

ACTION: Notice of intent.

SUMMARY: The United States Air Force is issuing this Notice of Intent (NOI) to announce that it is conducting an Environmental Impact Statement (EIS) to describe the proposed action for the Airspace Training Initiative. The proposed action would enhance the F-16 aircraft training mission for Shaw AFB and McEntire Air National Guard Station (ANGS). This NOI describes the Air Force's scoping process and identifies the Air Force's point of contact.

The Air Force conducted a series of scoping meetings in South Carolina and Georgia during September 2004 to receive public input on alternatives, concerns, and issues to be addressed in an environmental analysis. Based on the input received from the scoping meetings, the Air Force has determined that an EIS is required. The EIS will consider environmental issues identified by the public and agencies during the September meetings and received from correspondence during the scoping process. The Air Force has currently identified changes to airspace and aircraft noise as potential key issues requiring detailed analysis in the EIS.

No additional scoping meetings are scheduled. However, based upon interest expressed during community outreach scoping meetings, the public comment period has been extended through January 5, 2005. All written comments on the scope of alternatives and impacts received, as a result of the scoping meetings, or during the extended scoping period will be considered in the preparation of this EIS.

The proposed EIS will be prepared in compliance with the National Environmental Policy Act (NEPA) of 1969 (42 U.S.C. 4321-4347), the Council on Environmental Quality NEPA Regulations (40 CFR 1500-1508); and the Air Force's Environmental Impact Analysis Process (EIAP) (Air Force Instruction 32-7061 as promulgated at 32 CFR 989) to determine the potential environmental consequences of the Airspace Training Initiative. The Federal Aviation Administration is participating as a cooperating agency in this process.

As part of the Airspace Training Initiative proposal, the Air Force will analyze alternatives to modify Shaw AFB's airspace to enhance the ability of the 20th Fighter Wing at Shaw AFB and the 169th Fighter Squadron at McEntire ANGS to train as they need to fight in the evolving Global War on Terror. The proposed action includes the following:

—Creating a new Military Operations Area (MOA), that joins the western boundary of the existing Gamecock D MOA with the eastern boundary of existing Poinsett Electronic Combat Range (ECR).

—Lowering the floor of the existing Gamecock D MOA from 10,000 to 5,000 feet mean sea level (MSL) and combining and using Gamecock C and Gamecock D MOAs concurrently and simultaneously.

—Raising the ceiling on the existing Poinsett Low MOA from 2,500 feet MSL to 5,000 feet MSL.

—Modifying the boundary of the existing Bulldog A MOA to match that of Bulldog B MOA and lowering the current 11,000 foot MSL floor of the “shelf area” to 500 feet above ground level (AGL) to coincide with the Bulldog A floor.

—Extending the use of defensive training with training chaff and flares into the new and modified airspace. Developing training transmitter sites beneath the Bulldog and Gamecock MOAs and along the coast of South Carolina.

Alternatives to the proposed action include variations in altitude structure, special use airspace boundaries, extent and number of transmitter sites, and a no-action alternative.

The Air Force will accept comments at any time during the environmental analysis process. However, to ensure the Air Force has sufficient time to consider public input in the preparation of the Draft EIS, the scoping period has been extended. Comments should be submitted to the address below by January 5, 2005.

Point of Contact: Ms. Linda DeVine, HQ ACC/CEVP, 129 Andrews St., Suite 102, Langley AFB, VA 23665-2769, (757) 764-9434.

Anne Rollins,
Alternate Air Force Federal Register Liaison Officer.

[FR Doc. 04-26598 Filed 12-2-04; 8:45 am]

BILLING CODE 5001-5-P